DEPARTMENT OF AGRICULTURE

Commodity Credit Corporation

Notice of Request for Extension and Revision of a Currently Approved Information Collection

AGENCIES: Commodity Credit Corporation and Farm Service Agency, USDA.

ACTION: Notice and request for comments.

SUMMARY: In accordance with the Paperwork Reduction Act of 1995, this notice announces the intent of the Commodity Credit Corporation (CCC), through the Farm Service Agency (FSA), to request an extension and revision of the currently approved information collection for the regulation used in support of the CCC Conservation Reserve Program (CRP). This renewal includes revisions incorporated in the proposed rule, “Cropland Eligibility and Private Sector Technical Assistance,” including revisions to amend total burden hours to reflect ongoing CRP activity as authorized by the Federal Agriculture Improvement and Reform Act of 1996, Pub. L. 104-127, and Title XI of the Agriculture, Rural Development, Food and Drug Administration, and Related Agencies Appropriations Act, 2001, Pub. L. 106-387.

DATES: Comments on this notice must be received on or before May 14, 2002 to be assured consideration.

FOR FURTHER INFORMATION, AND TO FILE COMMENTS, CONTACT: Comments may be sent to Robert Stephenson, Director, Conservation and Environmental Programs Division, USDA, FSA, CEPD, STOP 0513, 1400 Independence Avenue, SW., Washington, DC 20250-0513, telephone (202) 720-6221; facsimile (202) 720-4619; or e-mail at crppra@wdc.usda.gov.

SUPPLEMENTARY INFORMATION: Title: (7 CFR part 1410) Conservation Reserve Program.

OMB Control Number: 0560-0125.

Expiration Date: October 31, 2002.

Type of Request: Extension and Revision of a Currently Approved Information Collection.

Abstract: The information collected under Office of Management and Budget (OMB) Control Number 0560-0125, as identified above allows FSA to effectively administer the regulations under the CRP. The CRP regulations at 7 CFR part 1410 and formerly at 7 CFR part 704 set forth basic policies, program provisions, and eligibility requirements for owners and operators to enter into and carry out long-term CRP contracts with financial and technical assistance and for making cost-share and annual rental payments under the program. All information collection under 7 CFR part 704 has ceased. This regulation was removed by the final CRP rule published February 19, 1997, which revised 7 CFR part 1410. CRP information collection requirements will continue under 7 CFR part 1410.

Estimate of Burden: Public reporting burden for this collection of information is estimated to average 6.7 minutes per respondent.

Respondents: Owners, operators, and other producers on eligible cropland.

Estimated Number of Respondents: 160,000.

Estimated Number of Responses per Respondent: 1.

Estimated Total Annual Burden Hours on Respondents: 153,861.

Comments are sought on these requirements including: (a) Whether the collection of information is necessary for the proper performance of the functions of the agency, including whether the information will have practical utility; (b) the accuracy of the agency's estimate of the burden including the validity of the methodology and assumptions used; (c) ways to enhance the quality, utility, and clarity of the information to be collected; and (d) ways to minimize the burden of the collection of information on those who are to respond, including using appropriate automated, electronic, mechanical, or other technological collection techniques or other forms of information technology. These comments should be sent to the Desk Officer for Agriculture, Office of Information and Regulatory Affairs, Office of Management and Budget, Washington, DC 20503 and to Robert Stephenson, Director, Conservation and Environmental Programs Division, USDA, FSA, 1400 Independence Avenue, SW., STOP 0513, Washington DC 20250-0513.

Comments will be summarized and included in the request for OMB approval of the information collection. All comments will also become a matter of public record.

Signed at Washington, DC, on January 28, 2002.
James R. Little,
Administrator, Farm Service Agency and Executive Vice President, Commodity Credit Corporation.

[FR Doc. 02-6206 Filed 3-14-02; 8:45 am]

BILLING CODE 3410-05-P